NUCLEAR REGULATORY COMMISSION

10 CFR Parts 50, 51, and 71

[NRC-2020-0034]

RIN 3150-AK79

Increased Enrichment of Conventional and Accident Tolerant Fuel Designs for Light-Water Reactors; Extension of Comment Period

AGENCY: Nuclear Regulatory Commission.

ACTION: Regulatory basis; extension of comment period.

SUMMARY: On September 8, 2023, the U.S. Nuclear Regulatory Commission (NRC) requested comments on the regulatory basis to support a rulemaking to amend the NRC's regulations related to the use of conventional and accident tolerant light-water reactor fuel designs. The public comment period was originally scheduled to close on November 22, 2023. The NRC has decided to extend the public comment period to allow more time for members of the public to develop and submit their comments.

DATES: The due date of comments requested in the document published on September 8, 2023 (88 FR 61986) is extended. Comments should be filed no later than January 22, 2024. Comments received after this date will be considered, if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2020-0034. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. eastern time, Federal workdays; telephone: 301-415-1677.

For additional direction on obtaining information and submitting comments, see “Obtaining Information and Submitting Comments” in the SUPPLEMENTARY INFORMATION section of this document.

FOR FURTHER INFORMATION CONTACT: Philip Benavides, Office of Nuclear Materials Safety and Safeguards, telephone: 301-415-3246, email: Philip.Benavides@nrc.gov and Carla Roque-Cruz, Office of Nuclear Reactor Regulation, telephone: 301-415-1455, email: Carla.Roque-Cruz@nrc.gov. Both are staff of the U.S. Nuclear Regulatory Commission, Washington, DC 20555-0001.

SUPPLEMENTARY INFORMATION:

I. Obtaining Information and Submitting Comments

A. Obtaining Information

Please refer to Docket ID NRC-2020-0034 when contacting the NRC about the availability of information for this action. You may obtain publicly available information related to this action by any of the following methods:

• Federal Rulemaking Website: Go to https://www.regulations.gov and search for Docket ID NRC-2020-0034.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The regulatory basis, “Increased Enrichment of Conventional and Accident Tolerant Fuel Designs for Light-Water Reactors, is available in ADAMS under Accession No. ML23032A504.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal Rulemaking Website (https://www.regulations.gov). Please include Docket ID NRC-2020-0034 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On September 8, 2023, the NRC requested comments on a regulatory basis titled “Increased Enrichment of Conventional and Accident Tolerant Fuel Designs for Light-Water Reactors” to support a rulemaking that would amend the NRC's regulations to facilitate the use of light-water reactor fuel containing uranium enriched to greater than 5.0 weight percent uranium-235 (U-235) in part 50 of title 10 of the Code of Federal Regulations (10 CFR), “Domestic Licensing of Production and Utilization Facilities,” 10 CFR part 51, “Environmental Protection Regulations for Domestic Licensing and Related Regulatory Functions,” and 10 CFR part 71, “Packaging and Transportation of Radioactive Material.” This rulemaking would allow the NRC to prepare for the effective and efficient licensing of applications using fuels enriched to greater than 5.0 and less than 20.0 weight percent U-235 without compromising reasonable assurance of adequate protection of public health and safety, reduce the need for exemptions from existing regulations and license amendment requests, provide licensees operational flexibility and certainty in licensing of accident tolerant fuel, and support the principles of good regulation. The rule changes would apply to any light-water power reactor application submitted to the NRC under 10 CFR part 50 and part 52, “Licenses, Certifications, and Approvals for Nuclear Power Plants.”

The public comment period was originally scheduled to close on November 22, 2023. The NRC has decided to extend the public comment period on this document until January 22, 2024, to allow more time for members of the public to submit their comments.

The NRC may post materials related to this document, including public comments, on the Federal rulemaking website at https://www.regulations.gov under Docket ID NRC-2020-0034. In addition, the Federal rulemaking website allows members of the public to receive alerts when changes or additions occur in a docket folder. To subscribe: (1) navigate to the docket folder (NRC-2020-0034); (2) click the “Subscribe” link; and (3) enter an email address and click on the “Subscribe” link.

Dated: October 31, 2023.
For the Nuclear Regulatory Commission.
Catherine E. Kanatas,
Acting Deputy Director, Division of Rulemaking, Environmental, and Financial Support, Office of Nuclear Material Safety and Safeguards.

[FR Doc. 2023-24396 Filed 11-3-23; 8:45 am]

BILLING CODE 7590-01-P